DEPARTMENT OF THE INTERIOR

Fish and Wildlife Service

[FWS-R1-R-2009-N226; 10137-1265-0000 S3]

Oregon Islands, Three Arch Rocks, and Cape Meares National Wildlife Refuges, Clatsop, Tillamook, Lincoln, Lane, Coos, and Curry Counties, OR

AGENCY: Fish and Wildlife Service, Interior.

ACTION: Notice of availability of comprehensive conservation plan, wilderness stewardship plan, and finding of no significant impact.

SUMMARY: We, the U.S. Fish and Wildlife Service (Service), announce the availability of our completed comprehensive conservation plan (CCP), wilderness stewardship plan (WSP), and finding of no significant impact (FONSI) for the Oregon Islands, Three Arch Rocks, and Cape Meares National Wildlife Refuges (Refuges) in Oregon. In this CCP, we describe how we will manage the Refuges for the next 15 years.

ADDRESSES: You can obtain printed or CD-ROM copies of the CCP/WSP/FONSI by any of the following methods:

Agency Web Site: Download a copy of the CCP/WSP/FONSI at http://www.fws.gov/oregoncoast/ccp.htm/.

E-mail: oregoncoastccp@fws.gov. Include “Oregon Islands CCP” in the subject line of the message.

Mail: Oregon Coast National Wildlife Refuge Complex, 2127 SE Marine Science Drive, Newport, OR 97365.

In-Person Viewing or Pickup: Call (542) 867-4550 to make an appointment during regular business hours to view the CCP/FONSI at 2127 SE Marine Science Drive, Newport, OR.

FOR MORE INFORMATION CONTACT: Roy W. Lowe, Project Leader, (542) 867-4550.

SUPPLEMENTARY INFORMATION:

Introduction

With this notice, we complete the current CCP process for the Oregon Islands, Three Arch Rocks, and Cape Meares Refuges. We started this process with a notice of intent published in the Federal Register (71 FR 62605, October 26, 2006). We released the Draft CCP/Environmental Assessment (EA) to the public, requesting comments in a notice of availability in the Federal Register (74 FR 28270, June 15, 2009).

The Oregon Islands, Three Arch Rocks, and Cape Meares Refuges are parts of the Oregon Coast National Wildlife Refuge Complex. Planning for these Refuges occurred simultaneously because all three Refuges consist of rocks, reefs, islands, and headlands located along the Oregon coast, and many of the same issues and management opportunities occur at all three Refuges.

These Refuges span the coast of Oregon and support a rich diversity of wildlife habitats including coastal rocks, reefs, islands, and forested and grass-covered headlands. Oregon Islands Refuge includes 1,854 rocks, reefs, islands, and two headland units, spanning 320 miles of the Oregon Coast. With the exception of Tillamook Rock, all of the rocks, reefs, and islands within the Refuge are included in the Oregon Islands Wilderness Stewardship Area. The Three Arch Rocks Refuge and Wilderness Stewardship area is located offshore in the Pacific Ocean, one-half mile west of Oceanside, Oregon, in Tillamook County. The Refuge encompasses nine rocks and islands with a total land area of 15 acres. Cape Meares Refuge consists of vertical coastal cliffs, rock outcroppings, and rolling headlands with old-growth forest dominated by Sitka spruce and western hemlock.

We announce our decision and the availability of the CCP/WSP/FONSI for Oregon Islands, Three Arch Rocks, and Cape Meares Refuges in accordance with the National Environmental Policy Act (NEPA) [40 CFR 1506.6(b)] requirements. We completed a thorough analysis of impacts on the human environment, which we included in the EA that accompanied the Draft CCP.

The CCP will guide us in managing and administering the Refuges for the next 15 years. Alternative 2, as we described in the Draft CCP/EA, is the foundation for the completed CCP. We made minor additions and corrections to the CCP based on public comments we received on the Draft CCP/EA.

Background

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year direction for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

CCP Alternatives, Including the Selected Alternative

We addressed several issues in our Draft CCP/EA through development and evaluation of two alternatives for managing the Refuges. The Draft CCP/EA was available for a 30-day public review and comment period. The Service received 11 comments on the Draft CCP, which were incorporated into or responded to in the completed CCP. No substantive changes were required to address public comments. One new strategy was added to emphasize communication with all branches of the military that conduct flights along the Oregon coast to educate pilots about the Refuges and the impacts caused by low-level overflights along the Oregon coast. Additional text was added to highlight the Service's plan to formalize the U.S. Coast Guard's supporting role in reporting Federal wildlife violations and enforcing Refuge regulations.

Selected Alternative

After considering the comments we received, we selected Alternative 2 for the CCP. As planned in the CCP, we will develop law-enforcement assistance agreements to increase resource protection along the coast; continue seabird surveys; develop GIS-based inventory and monitoring programs for target wildlife and plant species; actively work with partners to design and implement research on seabirds, pinnipeds, climate change, and other pertinent issues; expand the volunteer program to include interpretation at new locations; and develop agreements with school districts to implement environmental education programs at Oregon Islands and Three Arch Rocks Refuges.

For Cape Meares Refuge, we will maintain closed areas; create a wildlife checklist; conduct an official boundary survey and post the boundary; and develop law enforcement assistance agreements, as planned in the CCP. We will also increase the volunteer interpreter presence and recruit more volunteers to lead guided walks. Environmental education and evening campground programs at adjacent Cape Lookout State Park will be developed and implemented.

Public Availability of Documents

In addition to the methods in ADDRESSES, you can view or obtain documents at the following locations:

• Our Web site: http://www.fws.gov/oregoncoast/CCP.htm.

• Public libraries on the Oregon Coast will have a copy of the CCP in their Reference sections.

Dated: November 12, 2009.
David J. Wesley,
Acting Regional Director, Region 1, Portland, Oregon.

[FR Doc. E9-29316 Filed 12-8-09; 8:45 am]

BILLING CODE 4310-55-P